DEPARTMENT OF THE INTERIOR

[18XD0120AF/DT20000000/DST000000/241A/T0110100]

Tribal Information Sessions

AGENCY: Office of the Special Trustee for American Indians (OST), Interior.

ACTION: Announcement of Tribal information sessions.

SUMMARY: This notice announces two telephonic Tribal information sessions pertaining to the consolidation of OST's Office of Appraisal Services and the Office of Valuation Services into a new Appraisal and Valuation Services Office, located within the existing Office of Policy, Management and Budget.

DATES: Consultation sessions will be held by phone on Tuesday, April 24, from 1:00 p.m. to 2:30 p.m. EST, and Wednesday, April 25, 2018, from 9:00 a.m. to 10:30 a.m. EST. See the SUPPLEMENTARY INFORMATION section below for the call-in numbers and participant codes.

ADDRESSES: This information is also posted at www.doi.gov/OST/ITARA.

FOR FURTHER INFORMATION CONTACT: Mr. Eldred Lesansee, AVSO Associate Deputy Director at AVSO_Info@ios.doi.gov or (505) 816-1602.

SUPPLEMENTARY INFORMATION:

Background

In June 2016, Congress passed the Indian Trust Asset Reform Act (ITARA), Public Law 114-178. Title III, Section 305(a) of ITARA requires that appraisals and valuations of Indian trust property be administered by a single bureau, agency, or other administrative entity within the Department by December 22, 2017. Currently, the Office of Appraisal Services (OAS), within the Office of the Special Trustee for American Indians (OST), conducts appraisals of Indian trust property, while the Office of Valuation Services (OVS) conducts appraisals of non-Indian trust property, as well as mineral evaluations for Indian and non-Indian property.

In 2016, the Department held ten consultation sessions and a listening session with Tribes in various locations throughout the United States regarding Sections 303, 304, and 305 of ITARA, and held an open period for the submission of written comments. During consultation, the Department sought input on six options for the consolidation of appraisals and valuations and invited Tribes to suggest additional options.

New Appraisals and Valuation Services Office (AVSO)

The Department conducted an inventory and analysis of the OAS's current functions, and then assessed options for the future of those functions. After careful consideration of feedback from Tribes and individuals, and close collaboration with our internal stakeholders, the Department decided to consolidate OAS and OVS into a single office: the Appraisals and Valuation Services Office (AVSO), to be located in the existing Office of Policy, Management and Budget. On March 19, 2018, Secretary Zinke signed Secretarial Order No. 3363 consolidating appraisal and evaluation functions for trust property into the AVSO. The efficiencies garnered from administration by a single entity will enhance the Department's ability to improve the delivery of appraisal and minerals evaluation services to our clients.

The Department is hosting two information sessions for Tribes on this action to consolidate the OAS and OVS into a new AVSO.

Tribal Information Sessions Call-In Information

The toll-free call-in number for the sessions are as follows:

• April 24, 2018: (877) 918-1345, participant code 8512946.

• April 25, 2018: (877) 918-1345, participant code 8512946.

Authority: E.O. 13175, 65 FR 67250, and Section 2 of the Reorganization Plan No. 3 of 1950 (64 Stat. 1262).

Jerold Gidner,
Principal Deputy Special Trustee for American Indians.

[FR Doc. 2018-06183 Filed 3-27-18; 8:45 am]

BILLING CODE 4334-63-P